NUCLEAR WASTE TECHNICAL REVIEW BOARD

Board Meeting

The U.S. Nuclear Waste Technical Review Board will hold a virtual public meeting on March 1-2, 2022.

Board meeting: March 1-2, 2022—The U.S. Nuclear Waste Technical Review Board will hold a virtual public meeting to review information on the U.S. Department of Energy's activities related to spent nuclear fuel and high-level radioactive waste.

Pursuant to its authority under section 5051 of Public Law 100-203, Nuclear Waste Policy Amendments Act (NWPAA) of 1987, the U.S. Nuclear Waste Technical Review Board will hold a virtual public meeting on Tuesday, March 1, 2022, and Wednesday, March 2, 2022, to review information on the U.S. Department of Energy's (DOE) activities related to spent nuclear fuel (SNF) and high-level radioactive waste (HLW).

The meeting will begin on both days at 12:00 p.m. Eastern Standard Time (EST) and is scheduled to adjourn at 5:00 p.m. EST. On the first day, the DOE Office of Nuclear Energy (DOE-NE) will provide an update on DOE's dual-purpose canister (DPC) disposal R&D. Speakers representing the national laboratories conducting the DPC work for DOE will report on a repository-scale performance assessment incorporating post-closure criticality and cladding degradation modeling development. A DOE-NE representative will provide a summary and status of storage and transportation R&D and a speaker from the national laboratories will describe investigations into SNF storage canister surface environments and the potential for corrosion.

On the second day, an experiment simulating aerosol transmission through a crack in an SNF canister wall will be described by a speaker from the national laboratories. From the integrated waste management system R&D program, speakers from the national laboratories will describe the Hanford Lead Canister project and updated waste management system analysis tool requirements and enhancements. A speaker from DOE-NE will present the current functions and capabilities of DOE's Stakeholder Tool for Assessing Radioactive Transportation (START). The final speaker, from DOE-NE, will provide an update on consent-based siting. A detailed meeting agenda will be available on the Board's website at www.nwtrb.gov approximately one week before the meeting.

The meeting will be open to the public, and opportunities for public comment will be provided at the end of each day of the meeting. Details for viewing the meeting will be provided on the Board's website. Public comments may be submitted during the meeting via the online meeting viewing platform, using the “Comment for the Record” form. Comments submitted during each day of the meeting will be read into the record by Board staff during the public comment period just prior to adjournment. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by May 3, 2022.

The Board was established in the Nuclear Waste Policy Amendments Act of 1987 as an independent federal agency in the Executive Branch to evaluate the technical and scientific validity of DOE activities related to the management and disposal of SNF and HLW, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie at leslie@nwtrb.gov or Hundal Jung at jung@nwtrb.gov. For information on logistics, or to request copies of the meeting agenda or transcript, contact Davonya Barnes at barnes@nwtrb.gov. All three may be reached by mail at 2300 Clarendon Boulevard, Suite 1300, Arlington, VA 22201-3367; by telephone at 703-235-4473; or by fax at 703-235-4495.

Dated: January 11, 2022.
Daniel G. Ogg,
Acting Executive Director, U.S. Nuclear Waste Technical Review Board.

[FR Doc. 2022-00740 Filed 1-14-22; 8:45 am]

BILLING CODE 6820-AM-P